DEPARTMENT OF COMMERCE

National Oceanic and Atmospheric Administration

50 CFR Part 660

[Docket No. 000501119-01119-01; I.D. 080400C]

Fisheries Off West Coast States and in the Western Pacific; West Coast Salmon Fisheries; Closure and Inseason Adjustments from Cape Falcon to Humbug Mountain, OR

AGENCY: National Marine Fisheries Service (NMFS), National Oceanic and Atmospheric Administration (NOAA), Commerce.

ACTION: Closure and inseason adjustments; request for comments.

SUMMARY: NMFS announces that the recreational selective fishery for marked hatchery coho in the area from Cape Falcon to Humbug Mountain, Oregon, was closed on July 25, 2000, at 2359 hours local time (l.t.). The recreational fishery for all-salmon-except-coho reopened on July 26, 2000. The Northwest Regional Administrator, NMFS (Regional Administrator), determined that the recreational quota of 20,000 coho salmon had been reached. These actions are necessary to conform to the 2000 management measures and are intended to ensure conservation of coho salmon.

DATES: Closure effective 2359 hours l.t., July 25, 2000. Reopening effective 0001 hours l.t., July 26, 2000. Comments will be accepted through September 20, 2000.

ADDRESSES: Comments on this action must be mailed to William Stelle, Jr., Regional Administrator, Northwest Region, NMFS, NOAA, 7600 Sand Point Way N.E., Bldg. 1, Seattle, WA 98115-0070; or faxed to 206-526-6376; or Rebecca Lent, Regional Administrator, Southwest Region, NMFS, NOAA, 501 W. Ocean Blvd., Suite 4200, Long Beach, CA 90802-4132; or faxed to 562-980-4018. Comments will not be accepted if submitted via e-mail or the Internet. Information relevant to this document is available for public review during business hours at the Office of the Regional Administrator, Northwest Region, NMFS.

FOR FURTHER INFORMATION CONTACT: William Robinson, 206-526-6140, Northwest Region, NMFS, NOAA; or Svein Fougner, 562-980-4030 Southwest Region, NMFS, NOAA.

SUPPLEMENTARY INFORMATION: Regulations governing the ocean salmon fisheries at 50 CFR 660.409(a)(1) state that, when a quota for any salmon species in any portion of the fishery management area is projected by the Regional Administrator to be reached on or by a certain date, NMFS will, by notification issued under 50 CFR 660.411(a)(2), close the fishery for all salmon species in the portion of the fishery management area to which the quota applies, as of the date the quota is projected to be reached.

In the 2000 management measures for ocean salmon fisheries (65 FR 26138, May 5, 2000), NMFS announced that the recreational selective fishery for marked hatchery coho in the area between Cape Falcon to Humbug Mountain, OR would open on July 1 through earlier of July 31 or the attainment of a 20,000 marked coho quota, and the all-salmon-except-coho season would then reopen the earlier of August 1 or the attainment of the coho quota.

The Regional Administrator consulted with representatives of the Pacific Fishery Management Council and the Oregon Department of Fish and Wildlife. The best available information on July 24, 2000, indicated that the catch and effort data and projections supported closure of the recreational selective fishery for marked hatchery coho in this area at 2359 hours l.t., July 25, 2000. The recreational fishery for all-salmon-except-coho reopened July 26, 2000. The State of Oregon will manage the recreational fishery in state waters adjacent to this area of the exclusive economic zone in accordance with this Federal action. As provided by the inseason notice procedures of 50 CFR 660.411, actual notice to fishermen of these actions was given prior to 2359 hours l.t on July 25, 2000, by telephone hotline number 206-526-6667 and 800-662-9825, and by U.S. Coast Guard Notice to Mariners broadcasts on Channel 16 VHF-FM and 2182 kHz.

Because of the need for immediate action to stop the fishery upon achievement of the quota, NMFS has determined that good cause exists for this notification to be issued without affording a prior opportunity for public comment because such notification would be unnecessary, impracticable, and contrary to the public interest. Moreover, because of the immediate need to stop the fishery upon achievement of the quota, the Assistant Administrator for Fisheries, NOAA finds, for good cause, under 5 U.S.C. 553(d)(3), that delaying the effectiveness of this rule for 30 days is impracticable and contrary to public interest. This action does not apply to other fisheries that may be operating in other areas.

Classification

This action is authorized by 50 CFR 660.409 and 660.411 and is exempt from review under Executive Order 12866.

Authority: 16 U.S.C. 1801 et seq.

Dated: August 29, 2000.
Richard W. Surdi,
Acting Director, Office of Sustainable Fisheries, National Marine Fisheries Service.

[FR Doc. 00-22664 Filed 9-1-00; 8:45 am]

BILLING CODE: 3510-22-S